DEPARTMENT OF TRANSPORTATION

Federal Aviation Administration

14 CFR Part 39

[Docket No. FAA-2015-8426; Directorate Identifier 2015-NM-006-AD]

RIN 2120-AA64

Airworthiness Directives; Dassault Aviation Airplanes

AGENCY: Federal Aviation Administration (FAA), DOT.

ACTION: Notice of proposed rulemaking (NPRM).

SUMMARY: We propose to adopt a new airworthiness directive (AD) for certain Dassault Aviation Model MYSTERE-FALCON 900 airplanes, FALCON 900EX airplanes, and FALCON 2000EX airplanes. This proposed AD was prompted by a report that during a test flight, it was found that the yaw damper on the takeoff roll can increase the Minimum Control Speed on Ground (Vmcg). This proposed AD would require revising the airplane flight manual to incorporate procedures for the flightcrew to check that the yaw damper is set to off before takeoff. We are proposing this AD to ensure that the flightcrew has procedures to set the yaw damper to “off” before takeoff, which, if activated, could result in reduced control of the airplane if one engine were to fail during takeoff.

DATES: We must receive comments on this proposed AD by February 29, 2016.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Dassault Falcon Jet, P.O. Box 2000, South Hackensack, NJ 07606; telephone 201-440-6700; Internet http://www.dassaultfalcon.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2015-8426; or in person at the Docket Management Facility between 9 a.m. and 5 p.m., Monday through Friday, except Federal holidays. The AD docket contains this proposed AD, the regulatory evaluation, any comments received, and other information. The street address for the Docket Operations office (telephone 800-647-5527) is in the ADDRESSES section. Comments will be available in the AD docket shortly after receipt.

FOR FURTHER INFORMATION CONTACT: Tom Rodriguez, Aerospace Engineer, International Branch, ANM-116, Transport Airplane Directorate, FAA, 1601 Lind Avenue SW., Renton, Washington 98057-3356; telephone 425-227-1137; fax 425-227-1149.

SUPPLEMENTARY INFORMATION:

Comments Invited

We invite you to send any written relevant data, views, or arguments about this proposed AD. Send your comments to an address listed under the ADDRESSES section. Include “Docket No. FAA-2015-8426; Directorate Identifier 2015-NM-006-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Union, has issued EASA Airworthiness Directive 2015-0005, dated January 14, 2015 (referred to after this as the Mandatory Continuing Airworthiness Information, or “the MCAI”), to correct an unsafe condition for certain Dassault Aviation Model MYSTERE-FALCON 900 airplanes, FALCON 900EX airplanes, and FALCON 2000EX airplanes. The MCAI states:

During a flight test on a development aeroplane, it was found that the yaw damper (YD) working on the take-off roll can increase the Minimum Control Speed on Ground (Vmcg). A review of the certification data of the affected aeroplanes shows that Vmcg values published in the Airplane Flight Manuals (AFM) have been determined without YD.

This condition, if not corrected, could result, in case of an engine failure occurring during the roll acceleration [during takeoff], in reduced lateral control of the aeroplane.

To address this condition, Dassault Aviation developed Change Proposals (CP) and Temporary Changes (TC) to the applicable AFMs, which instruct flight crews to check that yaw damper is set to “off” before take-off.

For the reasons described above, this [EASA] AD requires an amendment of the applicable AFM.

You may examine the MCAI in the AD docket on the Internet at http://www.regulations.gov by searching for and locating Docket No. FAA-2015-8426.

Related Service Information Under 1 CFR Part 51

We reviewed the following service information:

• Change Proposal 17 (CP017), “AFM: Yaw Damper Off in Line Up Procedure,” dated January 23, 2015, to the Dassault Falcon 2000EX Airplane Flight Manual, DGT84278.

• Change Proposal 46 (CP046), “AFM: Yaw Damper Off In Line Up Procedure,” dated December 15, 2014, to the Dassault Falcon 2000EX EASy Version, Airplane Flight Manual, DGT88898.

• Change Proposal 118 (TC118), “AFM: Yaw Damper Off In Line Up Procedure,” dated December 18, 2014, to the Dassault Mystère Falcon 900 Airplane Flight Manual, DTM20103.

• Change Proposal 48 (TC048), “AFM: Yaw Damper Off In Line Up Procedure,” dated December 16, 2014, to the Dassault Mystère Falcon 900, F900C Version, Airplane Flight Manual (FM900C), TC048.

• Change Proposal 12 (CP012), “AFM: Yaw Damper Off In Line Up Procedure,” Dassault Falcon 900EX Airplane Flight Manual DTM561.

• Change Proposal 31 (CP031), “AFM: Yaw Damper Off In Line Up Procedure,” Dassault Falcon 900EX EASy, Airplane Flight Manual DGT84972).

The service information describes procedures for the flightcrew to check that the yaw damper is set to off before takeoff. This service information is reasonably available because the interested parties have access to it through their normal course of business or by the means identified in the ADDRESSES section of this NPRM.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of these same type designs.

Costs of Compliance

We estimate that this proposed AD affects 284 airplanes of U.S. registry.

We also estimate that it would take about 1 work-hour per product to comply with the basic requirements of this proposed AD. The average labor rate is $85 per work-hour. Based on these figures, we estimate the cost of this proposed AD on U.S. operators to be $24,140, or $85 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Dassault Aviation: Docket No. FAA-2015-8426; Directorate Identifier 2015-NM-006-AD.

(a) Comments Due Date

We must receive comments by February 29, 2016.

(b) Affected ADs

None.

(c) Applicability

This AD applies to airplanes specified in paragraphs (c)(1), (c)(2), and (c)(3) of this AD, certificated in any category.

(1) Dassault Aviation Model MYSTERE-FALCON 900 airplanes, all serial numbers.

(2) Dassault Aviation Model FALCON 900EX airplanes, all serial numbers, except airplanes with “EASy II” “2nd certification” avionics, which are defined as: Airplanes modified in production with Dassault Aviation modification M5595; or airplanes modified in service with Dassault Aviation Service Bulletin F900EX-400 or with Dassault Aviation Service Bulletin F900EX-414, except for airplanes modified in service with any of the service information in paragraphs (c)(2)(i) through (c)(2)(vii) of this AD.

(i) Dassault Aviation Service Bulletin F900EX-400, dated July 1, 2011.

(ii) Dassault Aviation Service Bulletin F900EX-400, Revision 1, dated July 5, 2012.

(iii) Dassault Aviation Service Bulletin F900EX-400, Revision 2, dated November 30, 2012.

(iv) Dassault Aviation Service Bulletin F900EX-414, dated July 20, 2011.

(v) Dassault Aviation Service Bulletin F900EX-414, Revision 1, dated July 5, 2012.

(vi) Dassault Aviation Service Bulletin F900EX-414, Revision 2, dated July 27, 2012.

(vii) Dassault Aviation Service Bulletin F900EX-414, Revision 3, dated November 30, 2012.

(3) Dassault Aviation Model FALCON 2000EX airplanes, all serial numbers, except airplanes with Dassault Aviation production modification M3254, or modified in service by Dassault Aviation Service Bulletin F2000EX-300 (“EASy II” avionics).

(d) Subject

Air Transport Association (ATA) of America Code 01, Operations Information.

(e) Reason

This AD was prompted by a report that during a test flight, it was found that the yaw damper on the take-off roll can increase the Minimum Control Speed on Ground (Vmcg). We are issuing this AD to ensure that the ensure that the flightcrew has procedures to set the yaw damper to “off” before takeoff, which, if activated, could result in reduced control of the airplane if one engine were to fail during takeoff.

(f) Compliance

Comply with this AD within the compliance times specified, unless already done.

(g) Revision of the Airplane Flight Manual (AFM)

Within 30 days after the effective date of this AD, revise the normal procedures and limitations sections of the airplane flight manual, as applicable, to include the information in the applicable AFM change specified in table 1 to paragraph (g) of this AD. This may be done by inserting copies of the applicable AFM change specified in table 1 to paragraph (g) of this AD in the AFM. When the applicable AFM change specified in table 1 to paragraph (g) of this AD have been included in general revisions of the AFM, the general revisions may be inserted into the AFM, provided the relevant information in the general revision is identical to that in the applicable AFM change specified in table 1 to paragraph (g) of this AD, and the applicable AFM change specified in table 1 to paragraph (g) of this AD may be removed.

Table 1 to Paragraph (g) of This AD—Normal Procedures and Limitations
Affected airplane/configuration | Applicable AFM change
Model Mystère Falcon 900 airplanes | Change Proposal 118 (TC118), “AFM: Yaw Damper Off In Line Up Procedure,” dated December 18, 2014, to the Dassault Mystère Falcon 900 Airplane Flight Manual, DTM20103.
Model Mystère Falcon 900 airplanes with Dassault Aviation production modification M1975, or production modification M2695 embodied, or modified in service by Dassault Aviation Service Bulletin F900-250 (“Falcon 900 C” version) | Change Proposal 48 (TC048), “AFM: Yaw Damper Off In Line Up Procedure,” dated December 16, 2014, to the Dassault Mystère Falcon 900, F900C Version, Airplane Flight Manual (FM900C), TC048.
Model Falcon 900EX airplanes | Change Proposal 12 (CP012), “AFM: Yaw Damper Off In Line Up Procedure,” Dassault Falcon 900EX Airplane Flight Manual DTM561.
Model Falcon 900EX airplanes with Dassault Aviation production modification M3083 embodied (Falcon 900EX “EASy” version) | Change Proposal 31 (CP031), “AFM: Yaw Damper Off In Line Up Procedure,” Dassault Falcon 900EX EASy, Airplane Flight Manual DGT84972).
Model Falcon 2000EX airplanes | Change Proposal 17 (CP017), “AFM: Yaw Damper Off in Line Up Procedure,” dated January 23, 2015, to the Dassault Falcon 2000EX Airplane Flight Manual, DGT84278.
Model Falcon 2000EX airplanes with Dassault Aviation production modification M1691 embodied (Falcon 2000EX “EASy” version) | Change Proposal 46 (CP046), “AFM: Yaw Damper Off In Line Up Procedure,” dated December 15, 2014, to the Dassault Falcon 2000EX EASy Version, Airplane Flight Manual, DGT88898.

(h) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Tom Rodriguez, Aerospace Engineer, International Branch, ANM-116, Transport Airplane Directorate, FAA, 1601 Lind Avenue SW., Renton, Washington 98057-3356; telephone 425-227-1137; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or the European Aviation Safety Agency (EASA); or Dassault Aviation's EASA Design Organization Approval (DOA). If approved by the DOA, the approval must include the DOA-authorized signature.

(i) Related Information

(1) Refer to Mandatory Continuing Airworthiness Information (MCAI) EASA Airworthiness Directive 2015-0005, dated January 14, 2015, for related information. This MCAI may be found in the AD docket on the Internet at http://www.regulations.gov by searching for and locating Docket No. FAA-2015-8426.

(2) For service information identified in this AD, contact Dassault Falcon Jet, P.O. Box 2000, South Hackensack, NJ 07606; telephone 201-440-6700; Internet http://www.dassaultfalcon.com. You may view this service information at the FAA, Transport Airplane Directorate, 1601 Lind Avenue SW., Renton, WA. For information on the availability of this material at the FAA, call 425-227-1221.

Issued in Renton, Washington, on December 23, 2015.
John Piccola,
Acting Manager, Transport Airplane Directorate, Aircraft Certification Service.

[FR Doc. 2015-33178 Filed 1-12-16; 8:45 am]

BILLING CODE 4910-13-P